FEDERAL COMMUNICATIONS COMMISSION

47 CFR Part 51

[WC Docket No. 17-84; FCC 17-154]

Accelerating Wireline Broadband Deployment by Removing Barriers to Infrastructure Investment; Correction

AGENCY: Federal Communications Commission.

ACTION: Final rule; announcement of effective date; correction.

SUMMARY: The Federal Communications Commission (Commission) published a document in the Federal Register on May 14, 2018, announcing that the Office of Management and Budget (OMB) has approved, for a period of three years, the information collection associated with the Commission's discontinuance rules. The document incorrectly referred to the Commission's discontinuance rules rather than its network change disclosure rules.

DATES: The correction is effective May 22, 2018.

FOR FURTHER INFORMATION CONTACT: Michele Levy Berlove, Attorney Advisor, Wireline Competition Bureau, at (202) 418-1477, or by email at Michele.Berlove@fcc.gov.

For additional information concerning the Paperwork Reduction Act information collection requirements, contact Nicole Ongele at (202) 418-2991 or nicole.ongele@fcc.gov.

SUPPLEMENTARY INFORMATION:

Summary: In this document, the Commission announces that the Office of Management and Budget (OMB) has approved, for a period of three years, the information collection associated with the Commission's network change disclosure rules. This document is consistent with the Accelerating Wireline Broadband Deployment by Removing Barriers to Infrastructure Investment Report and Order, Declaratory Ruling, and Further Notice of Proposed Rulemaking, FCC 17-154, which stated that the Commission would publish a document in the Federal Register announcing the effective date of those rules.

Correction

In the Federal Register of May 14, 2018, in FR doc. 2018-09971, on page 22208, in the second column, correct the “Summary” caption to read:

Federal Communications Commission.
Marlene Dortch,
Secretary.

[FR Doc. 2018-10810 Filed 5-21-18; 8:45 am]

BILLING CODE 6712-01-P